DEPARTMENT OF COMMERCE

Bureau of Industry and Security

Action Affecting Export Privileges; Ruo Ling Wang, Beijing Rich Linscience Electronics Company, and Jian Gou Qu Order Making Order Denying Export Privileges of Ruo Ling Wang Applicable to Related Person Jian Gou Qu

In the Matter of: Ruo Ling Wang, No. 2 Zhong Guan Cun South Avenue, Cyber Mode Room 1001, Haidian District, Beijing, China 100086; Respondent: Beijing Rich Linscience Electronics Company, No. 2 Zhong Guan Cun South Avenue, Cyber Mode Room 1001, Haidian District, Beijing, China 100086; and Jian Gou Qu, currently incarcerated at: Inmate Number 07512-089, MCC Chicago, Metropolitan Correctional Center, 71 West Van Buren Street, Chicago, IL 60605, and with an address at: No. 2 Zhong Guan Cun South Avenue, Cyber Mode Room 1001, Haidian District, Beijing, China 100086; Related Persons

Pursuant to Sections 766.25(h) and 766.23 of the Export Administration Regulations¹ (“EAR”), the Bureau of Industry and Security (“BIS”), U.S. Department of Commerce, through its Office of Export Enforcement (“OEE”), has requested that I make the Denial Order that was imposed against the individual Ruo Ling Wang (“Wang”) on April 18, 2006 (71 FR 23896, April 25, 2006) applicable to Jian Gou Qu (“Qu”), currently incarcerated at MCC Chicago, Metropolitan Correctional Center, 71 West Van Buren Street, Chicago, IL 60605, and with an address at No. 2 Zhong Guan Cun South Avenue, Cyber Mode Room 1001, Haidian District, Beijing, China 100086, (hereinafter, the “Related Person”), as a person related to Wang.

¹ The EAR are currently codified at 15 CFR parts 730-774 (2006).

Section 766.23 of the EAR provides that “[i]n order to prevent evasion, certain types of orders under this part may be made applicable not only to the respondent, but also to other persons then or thereafter related to the respondent by ownership, control, position of responsibility, affiliation, or other connection in the conduct of trade or business. Orders that may be made applicable to related persons include those that deny or affect export privileges * * *” 15 CFR 766.23(a).

On April 18, 2006, I issued an Order pursuant to section 11(h) of the Export Administration Act of 1970, as amended (currently codified at 50 U.S.C. app. Sections 2401-2420 (2000)) (“Act”) ² and section 766.25 of the EAR denying the export privileges under the Regulations of Ruo Ling Wang, No. 2 Zhong Guan Cun South Avenue, Cyber Mode Room 1001, Haidian District, Beijing, China 100086 for 10 years and naming Beijing Rich Linscience Electronics Company, No. 2 Zhong Guan Cun South Avenue, Cyber Mode Room 1001, Haidian District, Beijing, China 100086 as a Related Person. The Order was based on Wang's conviction of violating the International Emergency Economic Powers Act (50 U.S.C. 1701-1706 (2000)) (“IEEPA”) for making unlicensed exports of electronic components and semiconductor chips to the People's Republic of China.

² From August 21, 1994 through November 12, 2000, the Act was in lapse. During that period, the President, through Executive Order 12924, which had been extended by successive Presidential Notices, the last of which was August 3, 2000 (3 CFR, 2000 Comp. 397 (2001)), continued the Regulations in effect under the International Emergency Economic Powers Act (50 U.S.C. 1701-1706 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 2, 2005 (70 FR 45273, August 5, 2005), has continued the Regulations in effect under the IEEPA.

BIS has presented evidence that indicates that Qu is related to Wang by ownership, control, position of responsibility, affiliation, or other connection in the conduct of trade or business, and that it is necessary to add this individual to the Wang Denial Order in order to avoid evasion of that Order. The basis for naming Qu to the Wang Denial Order include the facts that Qu is Wang's husband and Wang and Qu are the owners of Beijing Rich Linscience Electronics Company (“BRLE”) and BRLE was receiving illegal exports from the United States of electronic components and semiconductor chips, items subject to the EAR.

On April 19, 2006, I gave notice to Qu, by Federal Express and registered mail at his address in Chicago, Illinois, (Inmate Number 07512-089, MCC Chicago, Metropolitan Correctional Center, 71 West Van Buren Street, Chicago, IL 60605) notifying Qu that his export privileges under the EAR could be denied for up to 10 years as BIS believes that Qu is related to Wang and adding him to the Wang Denial Order is necessary to prevent evasion.

Having received no response from Qu, I, following consultations with the Export Enforcement, including the Director, Office of Export Enforcement, have decided to name Qu as a related person to the Wang Denial Order, thereby denying Qu's export privileges from 10 years from the date of Wang's conviction.

I have also decided to revoke all licenses issued pursuant to the Act or EAR in which Qu had an interest at the time of Wang's conviction. The 10-year denial period ends on May 2, 2015.

Accordingly, it is hereby ordered

First, that having been provided notice and opportunity for comment as provided in Sections 766.25 and 766.23 of the Export Administration Regulations (the “Regulations”), the following individual, Jian Gou Qu, currently incarcerated at MCC Chicago, Metropolitan Correctional Center, 71 West Van Buren Street, Chicago, IL 60605 and with an address at No. 2 Zhong Guan Cun South Avenue, Cyber Mode Room 1001, Haidian District, Beijing, China 100086, has been determined to be related to Ruo Ling Wang, No. 2 Zhong Guan Cun South Avenue, Cyber Mode Room 1001, Haidian District, Beijing, China 100086, by affiliation, ownership, control, or position of responsibility in the conduct of trade or related services, and it has been deemed necessary to make the Order denying the export privileges of Wang applicable to Qu in order to prevent evasion of the Wang Denial Order.

Second, that the denial of export privileges described in the Wang Denial Order, which was published in the Federal Register on April 25, 2006 at 71 FR 23896, shall be made applicable to Qu until its expiration on May 2, 2015, as follows:

I. Jian Gou Qu, currently incarcerated at MCC Chicago, Metropolitan Correctional Center, 71 West Van Buren Street, Chicago, IL 60605 and with an address at No. 2 Zhong Guan Cun South Avenue, Cyber Mode Room 1001, Haidian District, Beijing, China 100086, and when acting for or on behalf of Qu, his officers, representatives, agents, or employees (collectively, “Denied Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that in accordance with the provisions of Section 766.23(c) of the Regulations, the Denied Person may, at any time, make an appeal related to this Order by filing a full written statement in support of the appeal with the Office of the Administrative Law Judge, U.S. Coast Guard ALJ Docketing Center, 40 South Gay Street, Baltimore, Maryland 21202-4022.

Fourth, that this Order does not prohibit any export, reexport, or other transaction subject to the Regulations where the only items involved that are subject to the Regulations are the foreign-produced direct product of U.S.-origin technology.

Fifth, that this Order is effective immediately and shall remain in effect until May 2, 2015.

Sixth, that this Order shall be published in the Federal Register and a copy served on the Related Person.

Dated: May 5, 2006.
Eileen M. Albanese,
Director, Office of Exporter Services.

[FR Doc. 06-4497 Filed 5-16-06; 8:45 am]

BILLING CODE 3510-DT-M